DEPARTMENT OF TRANSPORTATION

Federal Aviation Administration

14 CFR Part 71

[Docket No. FAA-2017-0724; Airspace Docket No. 17-AGL-1]

RIN 2120-AA66

Amendment and Removal of VOR Federal Airways in the Vicinity of Lansing, MI, and Pontiac, MI

AGENCY: Federal Aviation Administration (FAA), DOT.

ACTION: Final rule.

SUMMARY: This action modifies VHF Omnidirectional Range (VOR) Federal airways V-2, V-26, V-84, V-218, and V-510 in the vicinity of Lansing, MI, and removes airway V-410 in the vicinity of Pontiac, MI. These modifications are required due to the planned decommissioning of the Lansing, MI, VHF Omnidirectional Range/Tactical Air Navigation (VORTAC) and the Pontiac, MI, VORTAC navigation aids, which provide navigation guidance for portions of the above routes.

DATES: Effective date 0901 UTC, September 13, 2018. The Director of the Federal Register approves this incorporation by reference action under Title 1, Code of Federal Regulations, part 51, subject to the annual revision of FAA Order 7400.11 and publication of conforming amendments.

ADDRESSES: FAA Order 7400.11B, Airspace Designations and Reporting Points, and subsequent amendments can be viewed online at http://www.faa.gov/air_traffic/publications/. For further information, you can contact the Airspace Policy Group, Federal Aviation Administration, 800 Independence Avenue SW, Washington, DC 20591; telephone: (202) 267-8783. The Order is also available for inspection at the National Archives and Records Administration (NARA). For information on the availability of FAA Order 7400.11B at NARA, call (202) 741-6030, or go to https://www.archives.gov/federal-register/cfr/ibr-locations.html.

FAA Order 7400.11, Airspace Designations and Reporting Points, is published yearly and effective on September 15.

FOR FURTHER INFORMATION CONTACT: Colby Abbott, Airspace Policy Group, Office of Airspace Services, Federal Aviation Administration, 800 Independence Avenue SW, Washington, DC 20591; telephone: (202) 267-8783.

SUPPLEMENTARY INFORMATION:

Authority for This Rulemaking

The FAA's authority to issue rules regarding aviation safety is found in Title 49 of the United States Code. Subtitle I, Section 106 describes the authority of the FAA Administrator. Subtitle VII, Aviation Programs, describes in more detail the scope of the agency's authority. This rulemaking is promulgated under the authority described in Subtitle VII, Part A, Subpart I, Section 40103. Under that section, the FAA is charged with prescribing regulations to assign the use of the airspace necessary to ensure the safety of aircraft and the efficient use of airspace. This regulation is within the scope of that authority as it modifies the National Airspace System route structure as necessary to preserve the safe and efficient flow of air traffic.

History

The FAA published a notice of proposed rulemaking (NPRM) in the Federal Register for Docket No. FAA-2017-0724 (82 FR 34272; July 24, 2017). The NPRM proposed to amend VOR Federal airways V-2, V-26, V-84, V-218, and V-510, and to remove V-410, due to the planned decommissioning of the Lansing, MI, and Pontiac, MI, VORTACs. Interested parties were invited to participate in this rulemaking effort by submitting written comments on the proposal. No comments were received.

VOR Federal airways are published in paragraph 6010(a) of FAA Order 7400.11B, dated August 3, 2017, and effective September 15, 2017, which is incorporated by reference in 14 CFR 71.1. The VOR Federal airways listed in this document will be subsequently published in the Order.

Availability and Summary of Documents for Incorporation by Reference

This document amends FAA Order 7400.11B, Airspace Designations and Reporting Points, dated August 3, 2017, and effective September 15, 2017. FAA Order 7400.11B is publicly available as listed in the ADDRESSES section of this document. FAA Order 7400.11B lists Class A, B, C, D, and E airspace areas, air traffic service routes, and reporting points.

The Rule

The FAA is amending Title 14, Code of Federal Regulations (14 CFR) part 71 by modifying the descriptions of VOR Federal airways V-2, V-26, V-84, V-218, and V-510; and removing V-410, due to the planned decommissioning of the Lansing, MI, and Pontiac, MI, VORTACs. The route changes are described below.

V-2: V-2 extends between the Seattle, WA, VORTAC and the Gardner, MA, VOR/DME, excluding the airspace within Canada. The airway segment between the intersection of the Nodine, MN, 122° and Waukon, IA, 053° radials (WEBYE fix) and the Lansing, MI, VORTAC is removed. The unaffected portions of the airway remain as charted.

V-26: V-26 extends between the Blue Mesa, CO, VOR/DME and the Dryer, OH, VOR/DME, excluding the airspace within Canada. The airway segment between the White Cloud, MI, VOR/DME and the Lansing, MI, VORTAC is removed. The unaffected portions of the airway remain as charted.

V-84: V-84 extends between the Northbrook, IL, VOR/DME and the Flint, MI, VORTAC; and between the Buffalo, NY, VOR/DME and the Syracuse, NY, VORTAC. The airway segment between the Pullman, MI, VOR/DME and the Lansing, MI, VORTAC is removed. The unaffected portions of the airway remain as charted.

V-218: V-218 extends between the Grand Rapids, MN, VOR/DME and the Rockford, IL, VOR/DME; and between the Keeler, MI, VOR/DME and the Lansing, MI, VORTAC. The airway segments between the Waukon, IA, VORTAC and the Rockford, IL, VOR/DME; and between the Keeler, MI, VOR/DME and the Lansing, MI, VORTAC are removed. The unaffected portions of the airway remain as charted.

V-410: V-410 extends between the Pontiac, MI, VORTAC and the London, ON, Canada VOR/DME, excluding the airspace within Canada. The airway is removed in its entirety.

V-510: V-510 extends between the Dickinson, ND, VORTAC and the Dells, WI, VORTAC; between the Oshkosh, WI, VORTAC and the Lansing, MI, VORTAC; and between the Buffalo, NY, VOR/DME and the Rochester, NY, VOR/DME. The airway segment between the Oshkosh, WI, VORTAC and the Lansing, MI, VORTAC is removed. The unaffected portions of the airway remain as charted.

All radials in the route descriptions are stated relative to True north. Additionally, minor punctuation changes were made for clarity.

Regulatory Notices and Analyses

The FAA has determined that this regulation only involves an established body of technical regulations for which frequent and routine amendments are necessary to keep them operationally current. It, therefore: (1) Is not a “significant regulatory action” under Executive Order 12866; (2) is not a “significant rule” under Department of Transportation (DOT) Regulatory Policies and Procedures (44 FR 11034; February 26, 1979); and (3) does not warrant preparation of a regulatory evaluation as the anticipated impact is so minimal. Since this is a routine matter that only affects air traffic procedures and air navigation, it is certified that this rule, when promulgated, does not have a significant economic impact on a substantial number of small entities under the criteria of the Regulatory Flexibility Act.

Environmental Review

The FAA has determined that this action of modifying five VOR Federal airways and removing one Federal airway qualifies for categorical exclusion under the National Environmental Policy Act and its implementing regulations at 40 CFR part 1500, and in accordance with FAA Order 1050.1F, Environmental Impacts: Policies and Procedures, Paragraph 5-6.5a, which categorically excludes from further environmental impact review rulemaking actions that designate or modify classes of airspace areas, airways, routes, and reporting points (see 14 CFR part 71, Designation of Class A, B, C, D, and E Airspace Areas; Air Traffic Service Routes; and Reporting Points). As such, this action is not expected to cause any potentially significant environmental impacts. In accordance with FAA Order 1050.1F, paragraph 5-2 regarding Extraordinary Circumstances, the FAA has reviewed this action for factors and circumstances in which a normally categorically excluded action may have a significant environmental impact requiring further analysis. The FAA determined that no extraordinary circumstances exist that warrant preparation of an environmental assessment or environmental impact study.

List of Subjects in 14 CFR Part 71

Airspace, Incorporation by reference, Navigation (air).

The Amendment

In consideration of the foregoing, the Federal Aviation Administration amends 14 CFR part 71 as follows:

PART 71—DESIGNATION OF CLASS A, B, C, D, AND E AIRSPACE AREAS; AIR TRAFFIC SERVICE ROUTES; AND REPORTING POINTS

1. The authority citation for part 71 continues to read as follows:

Authority: 49 U.S.C. 106(f), 106(g); 40103, 40113, 40120; E.O. 10854, 24 FR 9565, 3 CFR, 1959-1963 Comp., p. 389.

§ 71.1 [Amended]

2. The incorporation by reference in 14 CFR 71.1 of FAA Order 7400.11B, Airspace Designations and Reporting Points, dated August 3, 2017 and effective September 15, 2017, is amended as follows:

Paragraph 6010(a) Domestic VOR Federal airways.

* * * * *

V-2 [Amended]

From Seattle, WA; Ellensburg, WA; Moses Lake, WA; Spokane, WA; Mullan Pass, ID; Missoula, MT; Helena, MT; INT Helena 119° and Livingston, MT, 322° radials; Livingston; Billings, MT; Miles City, MT; 24 miles, 90 miles 55 MSL, Dickinson, ND; 10 miles, 60 miles 38 MSL, Bismarck, ND; 14 miles, 62 miles 34 MSL, Jamestown, ND; Fargo, ND; Alexandria, MN; Gopher, MN; Nodine, MN; to INT Nodine 122° and Waukon, IA, 053° radials. From Buffalo, NY; Rochester, NY; Syracuse, NY; Utica, NY; Albany, NY; INT Albany 084° and Gardner, MA, 284° radials; to Gardner.

* * * * *

V-26 [Amended]

From Blue Mesa, CO; Montrose, CO; 13 miles 112 MSL, 131 MSL, Grand Junction, CO; Meeker, CO; Cherokee, WY; Muddy Mountain, WY; 14 miles, 37 miles 75 MSL, 84 miles 90 MSL, Rapid City, SD; Philip, SD; Pierre, SD; Huron, SD; Redwood Falls, MN; Farmington, MN; Eau Claire, WI; Waussau, WI; Green Bay, WI; INT Green Bay 116° and White Cloud, MI, 302° radials; to White Cloud.

* * * * *

V-84 [Amended]

From Northbrook, IL; to Pullman, MI. From Buffalo, NY; Geneseo, NY; INT Geneseo 091° and Syracuse, NY, 240° radials; to Syracuse.

* * * * *

V-218 [Amended]

From International Falls, MN; Grand Rapids, MN; Gopher, MN; to Waukon, IA.

* * * * *

V-410 [Removed]

* * * * *

V-510 [Amended]

From Dickinson, ND; INT Dickinson 078° and Bismarck, ND, 290° radials; 28 miles 38 MSL, Bismarck; INT Bismarck 067° and Jamestown, ND, 279° radials; 14 miles, 65 miles 34 MSL, Jamestown; Fargo, ND; INT Fargo 110° and Alexandria, MN, 321° radials; Alexandria; INT Alexandria 110° and Gopher, MN, 321° radials; Gopher; INT Gopher 109° and Nodine, MN, 328° radials; Nodine; to Dells, WI. From Buffalo, NY; INT Buffalo 045° and Rochester, NY, 273° radials; to Rochester.

Issued in Washington, DC, on June 13, 2018.
Scott J. Gardner,
Acting Manager, Airspace Policy Group.

[FR Doc. 2018-13376 Filed 6-21-18; 8:45 am]

BILLING CODE 4910-13-P